DEPARTMENT OF AGRICULTURE

Forest Service

Information Collection; Forest Industries and Residential Fuelwood and Post Data Collection Systems

AGENCY: Forest Service, USDA.

ACTION: Notice; request for comment.

SUMMARY: In accordance with the Paperwork Reduction Act of 1995, the Forest Service is seeking comments from all interested individuals and organizations on the renewal of a currently approved information collection, Forest Industries and Residential Fuelwood and Post Data Collection Systems. This will combine the Forest Industries Data Collection System (OMB Number: 0596-0010) and the Residential Fuelwood and Post Assessment in Selected States (OMB Number: 0596-0009, expired).

DATES: Comments must be received in writing on or before November 30, 2009 to be assured of consideration. Comments received after that date will be considered to the extent practicable.

ADDRESSES: Comments concerning this notice should be addressed to: USDA, Forest Service, Attn: Ronald Piva, Northern Research Station, Forest Inventory and Analysis, 1992 Folwell Ave., St. Paul, MN 55108.

Comments also may be submitted via facsimile to 651-649-5140 or by e-mail to: rpiva@fs.fed.us.

The public may inspect comments received at the Northern Research Station, 1992 Folwell Ave., Room 513, St. Paul, MN during normal business hours. Visitors are encouraged to call ahead to 651-649-5150 to facilitate entry to the building.

FOR FURTHER INFORMATION CONTACT: Ronald Piva, Northern Research Station, at 651-649-5150. Individuals who use telecommunication devices for the deaf (TDD) may call the Federal Relay Service (FRS) at 1-800-877-8339 twenty-four hours a day, every day of the year, including holidays.

SUPPLEMENTARY INFORMATION: Title: Forest Industries and Residential Fuelwood and Post Data Collection Systems.

OMB Number: 0596-0010.

Expiration Date of Approval: December 31, 2009.

Type of Request: Renewal.

Abstract: The Forest and Range Renewable Resources Planning Act of 1974 and the Forest and Rangeland Renewable Resources Research Act of 1978 require the Forest Service to evaluate trends in the use of logs and wood chips, to forecast anticipated levels of logs and wood chips, and to analyze changes in the harvest of these resources from National Forest System lands. To collect this information, Forest Service personnel use three questionnaires, which respondents return in self-addressed, postage pre-paid envelopes.

Pulpwood Received Questionnaire: Forest Service personnel use this questionnaire to collect and evaluate information from pulp and composite panel mills in order to monitor the volume, types, species, sources, and prices of timber products harvested throughout the Nation. The data collected will be used to provide essential information about the current use of the Nation's timber resources for pulpwood industrial products and is not available from other sources.

Logs and Other Roundwood Received Questionnaire: This questionnaire is used by Forest Service personnel to collect and evaluate information from primary wood-using mills, including small, part-time mills, as well as large corporate entities. Primary wood-using mills are facilities that use harvested wood in log or chip form, such as sawlogs, veneer logs, pulpwood, and pulp chips, to manufacture a secondary product, such as lumber or paper. Forest Service personnel evaluate the information collected and use it to monitor the volume types, species, sources, and prices of timber products harvested throughout the Nation.

Residential Fuelwood and Post Questionnaire: Forest Service personnel use this questionnaire to collect and evaluate information from residential households and logging contractors in order to monitor the volume, types, species, sources of fuelwood and posts harvested for residential use, as well as the types of burning facilities in the State. The collected information will enable land managers to determine what timber to sell for use as fuelwood or fence posts, how well the local forested land will meet the demand for these timber products, and how to project future demands on these renewable natural resources.

| Pulpwood received questionnaire | Logs and other roundwood received questionnaire | Residential fuelwood and post questionnaire
Estimate of annual burden hours | 30 minutes (0.5) | 50 minutes (0.84) | 10 minutes (0.17).
Type of respondents | Primary users of industrial pulpwood | Primary users of industrial roundwood products | Residential households and logging contractors.
Estimated annual number of respondents | 188 | 1628 | 1500.
Estimated annual number of responses per respondent | 1 | 1 | 1.
Estimated total annual burden hours on respondents | 94 hours | 1368 hours | 255 hours.

Comment Is Invited

Comment is invited on: (1) Whether this collection of information is necessary for the stated purposes and the proper performance of the functions of the Agency, including whether the information will have practical or scientific utility; (2) the accuracy of the Agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the submission request toward Office of Management and Budget approval.

Dated: September 24, 2009.
William J. Lange,
Acting Deputy Chief, Research & Development.

[FR Doc. E9-23638 Filed 9-30-09; 8:45 am]

BILLING CODE 3410-11-P